FEDERAL COMMUNICATIONS COMMISSION

47 CFR Part 73

[MB Docket No. 23-244; RM-11955; DA 23-622; FR ID 157779]

Television Broadcasting Services Knoxville, Tennessee

AGENCY: Federal Communications Commission.

ACTION: Proposed rule.

SUMMARY: The Commission has before it a petition for rulemaking filed by Tennessee TV, LLC (Petitioner), the licensee of WKNX-TV, channel 7, Knoxville, Tennessee. The Petitioner requests the substitution of channel 21 for channel 7 at Knoxville in the Table of Allotments.

DATES: Comments must be filed on or before August 28, 2023 and reply comments on or before September 11, 2023.

ADDRESSES: Federal Communications Commission, Office of the Secretary, 45 L Street NE, Washington, DC 20554. In addition to filing comments with the FCC, interested parties should serve counsel for the Petitioner as follows: Coe W. Ramsey, Esq., Brooks, Pierce, McLendon, Humphrey and Leonard, L.L.P, Wells Fargo Capitol Center, Suite 1700, Raleigh, NC 27601.

FOR FURTHER INFORMATION CONTACT: Joyce Bernstein, Media Bureau, at (202) 418-1647; or Joyce Bernstein, Media Bureau, at Joyce.Bernstein@fcc.gov.

SUPPLEMENTARY INFORMATION: In support, the Petitioner states that WKNX-TV's proposed channel substitution would serve the public interest by resolving current reception challenges within the Station's existing service area. Viewers within the Station's currently authorized channel 7 service area have experienced difficulty receiving the Station's signal, particularly since the June 12, 2009 digital transition. Petitioner further states that the Commission has recognized that VHF channels pose challenges for their use in providing digital television service, including propagation characteristics that allow undesired signals and noise to be receivable at relatively far distances and large variability in the performance of indoor antennas available to viewers, with most antennas performing very poorly on high VHF channels. The Petitioner's engineering analysis shows that the 50,322 persons currently located in the loss area along the eastern, southern, and western fringes of the proposed channel 21 facility would continue to be within the noise limited contour of least five other full power or Class A television stations, including four other Knoxville television stations.

This is a synopsis of the Commission's Notice of Proposed Rulemaking, MB Docket No. 23-244; RM-11955; DA 23-622, adopted July 20, 2023, and released July 20, 2023. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

2. In § 73.622, in the table in paragraph (j), under Tennessee, revise the entry for Knoxville to read as follows:

§ 73.622 Digital television table of allotments.

* * * * *

(j) * * *

Community | Channel No.
* * * * *
Tennessee
* * * * *
Knoxville | 10, 15, 21, 26, * 29, 34.
* * * * *

[FR Doc. 2023-16040 Filed 7-27-23; 8:45 am]

BILLING CODE P